DEPARTMENT OF ENERGY

Federal Energy Regulatory Commission

Combined Notice of Filings #1

Take notice that the Commission received the following electric corporate filings:

Docket Numbers: EC14-112-000.

Applicants: PPL Corporation, RJS Power Holdings LLC.

Description: Supplement to July 15, 2014 Application for Approval Pursuant to Section 203 of the Federal Power Act of PPL Corporation and RJS Power Holdings LLC.

Filed Date: 8/29/14.

Accession Number: 20140829-5221.

Comments Due: 5 p.m. ET 9/19/14.

Docket Numbers: EC14-130-000.

Applicants: Border Energy Electric Services, Inc., Interstate Gas Supply, Inc.

Description: Application for Authorization of Disposition of Jurisdictional Facilities of Border Energy Electric Services, Inc., and Interstate Gas Supply, Inc.

Filed Date: 8/29/14.

Accession Number: 20140829-5228.

Comments Due: 5 p.m. ET 9/19/14.

Docket Numbers: EC14-131-000.

Applicants: SG2 Imperial Valley LLC.

Description: Application for Expedited Approval under Section 203 of the Federal Power Act and Request for Confidential Treatment and Waivers of SG2 Imperial Valley LLC.

Filed Date: 9/2/14.

Accession Number: 20140902-5065.

Comments Due: 5 p.m. ET 9/23/14.

Take notice that the Commission received the following electric rate filings:

Docket Numbers: ER12-1923-001; ER10-2334-002; ER12-1924-001; ER11-3406-002; ER11-3407-002; ER10-2897-004; ER12-1865-003; ER12-1925-001.

Applicants: Big Savage, LLC, Big Sky Wind, LLC, EverPower Commercial Services LLC, Highland North LLC, Howard Wind LLC, Krayn Wind LLC, Mustang Hills, LLC, Patton Wind Farm, LLC.

Description: Supplement to June 5, 2014 Triennial Market Power Update for the EverPower Companies.

Filed Date: 8/29/14.

Accession Number: 20140829-5175.

Comments Due: 5 p.m. ET 9/12/14.

Docket Numbers: ER12-1923-002; ER10-2334-003; ER12-1924-002; ER11-3406-003; ER11-3407-003; ER10-2897-005; ER12-1865-004; ER12-1925-002.

Applicants: Big Savage, LLC, Big Sky Wind, LLC, EverPower Commercial Services LLC, Highland North LLC, Howard Wind LLC, Krayn Wind LLC, Mustang Hills, LLC, Patton Wind Farm, LLC.

Description: Supplement to June 5, 2014 Notification of Change in Status by the EverPower Companies under ER12-1923, et al.

Filed Date: 8/29/14.

Accession Number: 20140829-5222.

Comments Due: 5 p.m. ET 9/12/14.

Docket Numbers: ER14-2750-000.

Applicants: New York State Electric & Gas Corporation.

Description: § 205(d) rate filing per 35.13(a)(2)(iii): Rate Schedule FERC No. 87 Supplement to be effective 9/1/2014.

Filed Date: 8/29/14.

Accession Number: 20140829-5212.

Comments Due: 5 p.m. ET 9/19/14.

Docket Numbers: ER14-2751-000.

Applicants: Xcel Energy Southwest Transmission Company, LLC.

Description: Application for Transmission Formula Rate of Xcel Energy Southwest Transmission Company, LLC.

Filed Date: 8/29/14.

Accession Number: 20140829-5214.

Comments Due: 5 p.m. ET 9/19/14.

Docket Numbers: ER14-2752-000.

Applicants: Xcel Energy Transmission Development Company, LLC.

Description: Application for Transmission Formula Rate of Xcel Energy Transmission Development Company, LLC.

Filed Date: 8/29/14.

Accession Number: 20140829-5218.

Comments Due: 5 p.m. ET 9/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2014.
Nathaniel J. Davis, Sr.,
Deputy Secretary.

[FR Doc. 2014-21542 Filed 9-9-14; 8:45 am]

BILLING CODE 6717-01-P